DEPARTMENT OF AGRICULTURE

Animal and Plant Health Inspection Service

[Docket No. 98-057-2]

Availability of Draft Pest Risk Assessment for the Importation of Solid Wood Packing Materials Into the United States

AGENCY: Animal and Plant Health Inspection Service, USDA.

ACTION: Notice and request for comments.

SUMMARY: We are advising the public that a draft pest risk assessment has been prepared by the Animal and Plant Health Inspection Service for the importation of solid wood packing materials into the United States. We are making this draft pest risk assessment available to the public for review and comment.

DATES: We invite you to comment on the draft pest risk assessment. We will consider all comments that we receive by February 15, 2001.

ADDRESSES: Please send your comment and three copies to: Docket No. 98-057-2, Regulatory Analysis and Development, PPD, APHIS, Suite 3C03, 4700 River Road, Unit 118, Riverdale, MD 20737-1238

Please state that your comment refers to Docket No. 98-057-2.

You may also file comments on this docket electronically, and review comments filed electronically, at the World Wide Web site http://comments.aphis.usda.gov.

A copy of the draft pest risk assessment, and any comments that we receive on it, may be reviewed in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Judith E. Pasek, Center for Plant Health Science and Technology, PPQ, APHIS, 1017 Main Campus Drive, Suite 2500, Raleigh, NC 27606-5202; (919) 513-2400.

SUPPLEMENTARY INFORMATION: The Animal and Plant Health Inspection Service (APHIS) is considering amending the regulations on the importation of logs, lumber, and other unmanufactured wood articles to decrease the risk of solid wood packing material (e.g., crates, dunnage, wooden spools, pallets, packing blocks) introducing exotic plant pests into the United States. The regulations in 7 CFR 319.40-1 through 319.40-11 (referred to below as the regulations) are intended to mitigate the plant pest risk presented by the importation of logs, lumber, and other unmanufactured wood articles, including solid wood packing material (SWPM). Introductions into the United States of exotic plant pests such as the pine shoot beetle and the Asian longhorned beetle have been linked to the importation of SWPM. These and other plant pests that could be carried by imported SWPM pose a serious threat to U.S. agriculture and to natural, cultivated, and urban forests.

On January 20, 1999, we published an advance notice of proposed rulemaking in the Federal Register (64 FR 3049-3052, Docket No. 98-057-1) to seek information and develop regulatory options on the general problem of plant pests in SWPM imported from any country. In the notice, we requested public comment on what actions would be most effective and appropriate to further reduce the risk of SWPM introducing exotic plant pests into the United States. We received 102 comments in response to the advance notice of proposed rulemaking.

To evaluate the risks associated with the importation of solid wood packing materials so that we can propose regulations that are consistent with those risks, we have prepared a draft pest risk assessment entitled “Pest Risk Assessment for the Importation of Solid Wood Packing Materials Into the United States.”

The specific objectives of this pest risk assessment are to:

• Describe the means by which pests could potentially be transported via SWPM (i.e., pathways);

• Assess the potential for insect and pathogenic pests that may be transported with SWPM to enter the United States and become established; and

• Estimate the potential economic and environmental consequences these pests may have on forest and tree resources if they become established in the United States.

We are making this draft pest risk assessment available to the public for review and comment. In particular, we request feedback on the risk factors, methodology, and documentation used in the draft pest risk assessment. We will consider all comments that we receive by the date listed under the heading DATES at the beginning of this notice.

The draft pest risk assessment is available in our reading room (information on the location and hours of the reading room is listed under the heading ADDRESSES at the beginning of this notice) or on the Internet at http://www.aphis.usda.gov/ppq/pra/swpm. You may also request that a copy be mailed to you by registering at http://www.aphis.usda.gov/ppq/pra/swpm or by contacting the person listed under FOR FURTHER INFORMATION CONTACT. If you request that a copy be mailed to you, please specify whether you desire a printed copy or a copy on compact disk.

Authority: Title IV, Pub. L. 106-224, 114 Stat. 438, 7 U.S.C. 7701-7772; 7 U.S.C. 166 and 450; 7 CFR 2.22, 2.80, and 371.3.

Done in Washington, DC, this 11th day of October 2000.
Craig A. Reed,
Administrator, Animal and Plant Health Inspection Service.

[FR Doc. 00-26652 Filed 10-16-00; 8:45 am]

BILLING CODE 3410-34-P